SMALL BUSINESS ADMINISTRATION

[Declaration of Disaster #3632]

Commonwealth of Pennsylvania; (Amendment #1)

In accordance with notices received from the Department of Homeland Security—Federal Emergency Management Agency “ effective September 21 and 22, 2004, the above numbered declaration is hereby amended to include Bedford, Blair, Bradford, Bucks, Cameron, Carbon, Clarion, Clinton, Columbia, Fulton, Greene, Huntingdon, Jefferson, Juniata, Lehigh, Mifflin, Monroe, Northumberland, Pike, Snyder, Union, and Wayne counties as disaster areas due to damages caused by Tropical Depression Ivan occurring on September 17, 2004 and continuing. In addition, applications for economic injury loans from small businesses located in the contiguous counties of Forest, McKean, Montgomery, Philadelphia, Potter, and Tioga in the Commonwealth of Pennsylvania; Burlington, Hunterdon, Mercer, and Sussex Counties in the State of New Jersey; Chemung, Delaware, Orange, and Sullivan Counties in the State of New York; Monongalia and Wetzel Counties in the State of West Virginia; and Allegany and Washington Counties in the State of Maryland may be filed until the specified date at the previously designated location. All other counties contiguous to the above named primary counties have previously been declared. The economic injury number assigned to Maryland is 9AA100.

All other information remains the same, i.e., the deadline for filing applications for physical damage is November 18, 2004 and for economic injury the deadline is June 20, 2005.

(Catalog of Federal Domestic Assistance Program Nos. 59002 and 59008)

Dated: September 23, 2004.
Herbert L. Mitchell,
Associate Administrator for Disaster Assistance.

[FR Doc. 04-21896 Filed 9-29-04; 8:45 am]

BILLING CODE 8025-01-P